DEPARTMENT OF THE INTERIOR

National Park Service

[NPS-WASO-NAGPRA-16405; PPWOCRADN0-PCU00RP14.R50000]

Notice of Intent To Repatriate Cultural Items: U.S. Department of Agriculture, Forest Service, Chugach National Forest, Anchorage, AK, and the Thomas Burke Memorial Washington State Museum, University of Washington, Seattle, WA

AGENCY: National Park Service, Interior.

ACTION: Notice.

SUMMARY: The U.S. Department of Agriculture (USDA), Forest Service, Chugach National Forest and the Thomas Burke Memorial Washington State Museum (Burke Museum), University of Washington, in consultation with the appropriate Indian tribes or Native Hawaiian organizations, has determined that the cultural items listed in this notice meet the definition of unassociated funerary objects. Lineal descendants or representatives of any Indian tribe or Native Hawaiian organization not identified in this notice that wish to claim these cultural items should submit a written request to the Chugach National Forest. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Chugach National Forest at the address in this notice by March 6, 2015.

ADDRESSES: Terri Marceron, Chugach National Forest, 161 East 1st Ave., Door 8, Anchorage, AK 99501, telephone (907) 743-9525, email tmarceron@fs.fed.us.

SUPPLEMENTARY INFORMATION: Notice is here given in accordance with the Native American Graves Protection and Repatriation Act (NAGPRA), 25 U.S.C. 3005, of the intent to repatriate cultural items under the control of the USDA Forest Service, Chugach National Forest, Anchorage, AK, and in the physical custody of the Burke Museum, Seattle, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1933, Drs. Kaj Birket-Smith and Frederica de Laguna performed archeological survey and excavations in Prince William Sound, AK, under the auspices of University of Pennsylvania Museum and the Danish National Museum. The University of Pennsylvania Museum and the Danish National Museum transferred objects from the expedition to the Burke Museum in 1935. There was no archival documentation included with the transferred materials. In 2011, it was brought to the Burke Museum's attention that these objects could be funerary objects. During tribal consultation, it was brought to the Burke Museum's attention that two of these sites, 49-COR-001 and 49-SEW-048, were located on Chugach Forest Service land at the time of excavation. Site 49-COR-001 has since been patented to the Chugach Alaska Corporation.

In 1933, cultural items were removed from 49-COR-001 during systematic excavations in Prince William Sound, AK, by Drs. Kaj Birket-Smith and Frederica de Laguna. Based on archeological records and reports, 12 of the transferred cultural items were found to be in close proximity to known burials, or were identified through consultation as typical funerary objects. The 12 unassociated funerary objects are: 1 grinding stone, 2 slate awls, 1 bone harpoon point, 1 bird bone awl, 2 bird bone tubes, 1 bird bone tool, 1 modified bird bone fragment, 1 unmodified bear tooth, 1 lot of shell beads, and 1 bone bead.

Site 49-COR-001 was a main village for one of the eight original Chugach tribes (de Laguna 1956). Ethnographic evidence indicates that 49-COR-001 is ancestral to the present day Chugach villages. Additionally, oral tradition and ethnographic information presented during consultation supports this affiliation with the Chugach villages.

In 1933, cultural items removed from 49-SEW-048 during systematic excavations in Prince William Sound, AK, by Drs. Kaj Birket-Smith and Frederica de Laguna were placed in the Burke Museum. The unassociated funerary object is one canoe, which is currently in 12 pieces.

Site 49-SEW-048 is in the territory of the Kiniklik people (de Laguna 1956). Edmond Meany, who had previously worked in the area, noted that canoes were traditionally placed with the remains as part of burial practices (de Laguna 1956). Archeological evidence indicates that 49-SEW-048 is ancestral to the present day Chugach villages. Additionally, oral tradition and ethnographic information presented during consultation supports this affiliation with the Chugach villages.

Archeological data, ethnographic information, and oral tradition all support these sites being ancestral to the present-day Chugach villages of the Native Village of Eyak (Cordova), the Native Village of Chenega (aka Chanega), and the Native Village of Tatitlek.

Determinations Made by the Chugach National Forest and the Burke Museum

Officials of the Chugach National Forest and the Burke Museum have determined that:

• Pursuant to 25 U.S.C. 3001(3)(B), the 13 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Native Village of Eyak (Cordova), the Native Village of Chenega (aka Chanega), and the Native Village of Tatitlek.

Additional Requestors and Disposition

Lineal descendants or representatives of any Indian tribe or Native Hawaiian organization not identified in this notice that wish to claim these cultural items should submit a written request with information in support of the claim to Terri Marceron, Chugach National Forest, 161 East 1st Ave., Door 8, Anchorage, AK 99501, telephone (907) 743-9525, email tmarceron@fs.fed.us, by March 6, 2015. After that date, if no additional claimants have come forward, transfer of control of the unassociated funerary objects to the Native Village of Eyak (Cordova), the Native Village of Chenega (aka Chanega), and the Native Village of Tatitlek may proceed. By signed delegated authority, and on behalf of the Native Village of Eyak, the Native Village of Chenega, and the Native Village of Tatitlek, items will be repatriated through the Chugach Alaska Corporation.

The Chugach National Forest is responsible for notifying the Native Village of Eyak (Cordova), the Native Village of Chenega (aka Chanega), and the Native Village of Tatitlek that this notice has been published.

Dated: January 14, 2015.
Melanie O'Brien,
Acting Manager, National NAGPRA Program.

[FR Doc. 2015-02223 Filed 2-3-15; 8:45 am]

BILLING CODE 4312-50-P